ENVIRONMENTAL PROTECTION AGENCY

(ER-FRL-6616-8)

Environmental Impact Statements; Notice of Availability

Responsible Agency: Office of Federal Activities, General Information (202) 564-7167 or www.epa.gov/oeca/ofa

Weekly receipt of Environmental Impact Statements

Filed March 26, 2001 Through March 30, 2001

Pursuant to 40 CFR 1506.9.

EIS No. 010099, DRAFT EIS, AFS, ID, Little Weiser Landscape Vegetation Management Project, Implementation, Council Ranger District, Payette National Forest, Adams County, ID , Due: May 21, 2001, Contact: Michael Hutchins (208) 253-0100.

EIS No. 010100, DRAFT EIS, BOP, AZ, Southern Arizona Federal Correctional Facility, Construction and Operation, Pima and Yuma Counties, AZ, Due: May 21, 2001, Contact: David J. Dorworth (202) 514-6470.

EIS No. 010101, FINAL EIS, NOA, Tilefish Fishery Management Plan (FMP), (Lopholatilus chamaeleonticeps), To Prevent Overfishing and to Rebuild the Resource of Tilefish, Located along the Atlantic Ocean, Due: May 07, 2001, Contact: Catherine B. Belli (301) 713-2341.

EIS No. 010102, DRAFT EIS, AFS, MT, Keystone-Quartz Ecosystem Management, Implementation, Beaverhead-Deerlodge National Forest, Wise River Ranger District, Beaverhead County, MT, Due: May 21, 2001, Contact: Jeff Trejo (406) 832-3178.

EIS No. 010103, DRAFT EIS, AFS, MT, Dry Fork Vegetation Restoration Project, To Improve Forest and Watershed Health and Sustainability, King Hill Ranger District, Lewis and Clark National Forest, Cascade and Judith Basin Counties, MT, Due: May 21, 2001, Contact: Jennifer Johnsten (406) 791-7700.

EIS No. 010104, FINAL EIS, NOA, HI, GU, AS, Pelagic Fisheries of the Western Pacific Region, Fishery Management Plan, To Analyze Longline Fisheries, Commercial Troll and Recreational Troll Fisheries, Commercial Pelagic Handliner and Commercial Pole and Line Skipjack Fishery, Hawaii, American Samoa, Guam and Commonwealth of the Northern Mariana Island, Due: May 07, 2001, Contact: Charles Karnella (803) 973-2941.

Amended Notices

EIS No. 010098, DRAFT EIS, BIA, NV, Moapa Paiute Energy Center/Associated Facilities Construction, Operation and Maintenance of a 760- Megawatt (MW) Baseload Natural Gas-Fired Combined Cycle Power Plant, Land Lease and Water Use Approval, R-O-W Grants, Temporary Use, COE Section 10/404 and EPA NPDES Permits, Moapa River Indian Reservation and BLM Lands, Clark County, NY, Due: May 29, 2001, Contact: Amy L. Heuslein (602) 379-6750. The US Department of the Interior's Bureau of Land Management and Bureau of Indian Affairs are Joint Lead Agencies for the above Project. The above BIA EIS should have appeared in the 03-30-2001 Federal Register. The 45-day Comment Period is Calculated from 03-30-2001.

EIS No. 000398, DRAFT EIS, AFS, ID, UT, OR, Boise National Forest, Payette National Forest and Sawtooth National Forest, Forest Plan Revision, Implementation, Southwest Idaho Ecogroup, several counties, ID, Malhaur County, OR and Box Elder County, UT , Due: June 15, 2001, Contact: David Rittenhouse (208) 373-4100. Revision of FR Notice Published on 11/24/2000: CEQ Review Period Ending 03/16/2001 has been Extended to 06/15/2001.

EIS No. 000421, DRAFT EIS, COE, CA, Guadalupe Creek Restoration Project, Restore Riparian Vegetation and Native Anadromous Fish Habitat, From Almaden Expressway to Masson Dam, Implementation, Guadalupe River, Santa Clara County, CA, Due: January 22, 2001, Contact: Brad Hubbard (916) 557-7054. Revision of FR Notice Published on 12/08/2000: Officially Withdrawn by letter date 03/20/2001.

EIS No. 010041, DRAFT EIS, FHW, MI, I-94/Rehabilitation Project, Transportation Improvements to a 6.7 mile portion of I-94 from east I-96 west end to Conner Avenue on the east end, Funding and NPDES Permit, City of Detroit, Wayne County, MI, Due: May 11, 2001, Contact: James Kirschensteiner (517) 377-1880. Revision of FR Notice Published on 02/16/2001: CEQ Review Period Ending on 04/02/2001 has been Extended to 05/11/2001.

Dated: April 03, 2001
Joseph C. Montgomery,
Director, NEPA Compliance Division, Office of Federal Activities.

[FR Doc. 01-8559 Filed 4-5-01; 8:45 am]

BILLING CODE 6560-50-P